DEPARTMENT OF COMMERCE

National Oceanic and Atmospheric Administration

[I.D. 031903F]

Vessel Monitoring Systems; List of Approved Mobile Transmitting Units and Communications Service Providers

AGENCY: National Marine Fisheries Service (NMFS), National Oceanic and Atmospheric Administration (NOAA), Commerce.

ACTION: Notice of vessel monitoring systems; approval; correction.

SUMMARY: This document provides a correction to the fax number indicated in a notice published March 11, 2003, regarding vessel monitoring systems (VMS) approved for pelagic longline vessels in the Atlantic Highly Migratory Species fisheries.

DATES: Effective March 27, 2003.

FOR FURTHER INFORMATION CONTACT: For current listing of approved units contact Mark Oswell, Outreach Specialist, phone 301-427-2300, fax 301-427-2055. For questions regarding VMS installation, activation checklists, and status of evaluations, contact Jonathan Pinkerton, National VMS Program Manager, phone 301-427-2300, fax 301-427-2055. For questions regarding the checklist, contact Fred Kyle, Special Agent, NMFS Office for Law Enforcement, Southeast Division, phone 727-570-5344.

The public may acquire this notice, installation checklist, and relevant updates via the “fax-back” service, or at the OLE website http://www.nmfs.noaa.gov/ole/vms.html. Telephone requests can be made by calling 301-427-2300.

SUPPLEMENTARY INFORMATION:

Correction

In the Federal Register issue of March 11, 2003, on page 11534, in the second column, in the ADDRESSES section, in the second paragraph, “fax 727-570-5375” is corrected to read “fax 727-570-5575.”

Authority: 16 U.S.C. 1801, et seq.

Dated: March 21, 2003.
Rebecca Lent,
Deputy Assistant Administrator for Regulatory Programs, National Marine Fisheries Service.

[FR Doc. 03-7365 Filed 3-26-03; 8:45 am]

BILLING CODE 3510-22-S